Title 3—

The President

Proclamation 9441 of May 4, 2016

National Day of Prayer, 2016

By the President of the United States of America

A Proclamation

In times of steady calm and extraordinary change alike, Americans of all walks of life have long turned to prayer to seek refuge, demonstrate gratitude, and discover peace. Sustaining us through great uncertainty and moments of sorrow, prayer allows us an outlet for introspection, and for expressing our hopes, desires, and fears. It offers strength in the face of hardship, and redemption when we falter. Our country was founded on the idea of religious freedom, and we have long upheld the belief that how we pray and whether we pray are matters reserved for an individual's own conscience. On National Day of Prayer, we rededicate ourselves to extending this freedom to all people.

Every day, women and men use the wisdom gained from humble prayer to spread kindness and to make our world a better place. Faith communities at home and abroad have helped feed the hungry, heal the sick, and protect innocents from violence. Nurturing communities with love and understanding, their prayer inspires their work, which embodies a timeless notion that has kept humanity going through the ages—that one of our most sacred responsibilities is to give of ourselves in service to others.

The threats of poverty, violence, and war around the world are all too real. Our faith and our earnest prayers can be cures for the fear we feel as we confront these realities. Helping us resist despair, paralysis, or cynicism, prayer offers a powerful alternative to pessimism. Through prayer, we often gain the insight to learn from our mistakes, the motivation to always be better, and the courage to stand up for what is right, even when it is not popular.

Each of us is an author in our collective American story, and in participating in our national discourse to address some of our Nation's greatest challenges, we are reminded of the blessing we have to live in a land where we are able to freely express the beliefs we hold in our hearts. The United States will continue to stand up for those around the world who are subject to fear or violence because of their religion or beliefs. As a Nation free to practice our faith as we choose, we must remember those around the world who are not afforded this freedom, and we must recommit to building a society where all can enjoy this liberty and live their lives in peace and dignity.

On this day, may our faiths enable us to sow the seeds of progress in our ever-changing world. Let us resolve to guide our children and grandchildren to embrace freedom for all, to see God in everyone, and to remember that no matter what differences they may have, they, just like we, will always be united by their common humanity.

The Congress, by Public Law 100-307, as amended, has called on the President to issue each year a proclamation designating the first Thursday in May as a “National Day of Prayer.”

NOW, THEREFORE, I, BARACK OBAMA, President of the United States of America, by virtue of the authority vested in me by the Constitution and the laws of the United States, do hereby proclaim May 5, 2016, as National Day of Prayer. I invite the citizens of our Nation to give thanks, in accordance with their own faiths and consciences, for our many freedoms and blessings, and I join all people of faith in asking for God's continued guidance, mercy, and protection as we seek a more just world.

IN WITNESS WHEREOF, I have hereunto set my hand this fourth day of May, in the year of our Lord two thousand sixteen, and of the Independence of the United States of America the two hundred and fortieth.

[FR Doc. 2016-10952

Filed 5-6-16; 8:45 am]

Billing code 3295-F6-P